NATIONAL SCIENCE FOUNDATION

Notice of Permit Modification Received Under the Antarctic Conservation Act of 1978

AGENCY: National Science Foundation.

ACTION: Notice of Permit Modification Request Received and Permit Issued under the Antarctic Conservation Act of 1978, Public Law 95-541.

SUMMARY: The National Science Foundation (NSF) is required to publish a notice of requests to modify permits issued to conduct activities regulated and permits issued under the Antarctic Conservation Act of 1978. NSF has published regulations under the Antarctic Conservation Act at title 45 part 670 of the Code of Federal Regulations. This is the required notice of a requested permit modification and permit issued.

FOR FURTHER INFORMATION CONTACT: Nature McGinn, ACA Permit Officer, Division of Polar Programs, Rm. 755, National Science Foundation, 4201 Wilson Boulevard, Arlington, VA 22230. Or by email: ACApermits@nsf.gov.

SUPPLEMENTARY INFORMATION: The Foundation issued a permit (ACA 2011-002) to David Ainley on May 28, 2010. The issued permit allows the applicant to band, apply instruments, weigh, collect blood and cloacal swabs, and mark nest of Adelie penguins located at Cape Crozier (ASPA 124), Cape Royds (ASPA 121), Cape Bird, and Beaufort Island (ASPA 105), as well as to enter Cape Hallett (ASPA 106) in November 2014 to check for banded birds and to deploy temperature loggers in penguin nests to test hypotheses on nest quality. A recent modification to this permit, dated November 12, 2015, permitted the applicant to extend the permitted activities for one additional year so that the permit now expires on August 31, 2016. Now the applicant proposes a permit modification to add two named agents and three additional agents to be determined to this permit to assist with approved activities. The Environmental Officer has reviewed the modification request and has determined that the amendment is not a material change to the permit, and it will have a less than a minor or transitory impact.

DATES: January 19, 2016 to August 31, 2016.

The permit modification was issued on January 19, 2016.

Nadene G. Kennedy,
Polar Coordination Specialist, Division of Polar Programs.

[FR Doc. 2016-01378 Filed 1-25-16; 8:45 am]

BILLING CODE 7555-01-P